DEPARTMENT OF ENERGY

Federal Energy Regulatory Commission

[Docket No. EC04-90-000, et al.]

Oregon Electric Utility Company, et al.; Electric Rate and Corporate Filings

April 27, 2005.

The following filings have been made with the Commission. The filings are listed in ascending order within each docket classification.

1. Oregon Electric Utility Company Portland General Electric Company

[Docket No. EC04-90-000]

Take notice that on April 8, 2005, Oregon Electric Utility Company and Portland General Electric Company filed a withdrawal of their application for Approval of a Transfer of Control over Jurisdictional Facilities and Request for Waiver of Regulations in Docket No. EC04-90-000 filed on April 6, 2004, as amended on July 22, 2004, and December 7, 2004.

Comment Date: 5 p.m. eastern time on May 9, 2005.

2. Florida Power & Light Company

[Docket Nos. ER93-465-034, ER96-417-003, ER96-1375-004, OA96-39-011, OA97-245-004]

Take notice that on April 25, 2005, Florida Power & Light Company (FPL) submitted a compliance filing pursuant to the Commission's order issued January 25, 2005, in Florida Power & Light Co., 110 FERC ¶ 61,058 (2005).

FPL states that copies of the filing were served on parties on the official service lists in the above-captioned proceedings.

Comment Date: 5 p.m. eastern time on May 16, 2005.

3. Dow Pipeline Company

[Docket No. ER00-2529-003]

Take notice that on April 25, 2005, Dow Pipeline Company submitted a compliance filing pursuant to the Commission's March 25, 2005, order in Dow Pipeline Company, 110 FERC ¶ 61,354 (2005).

Comment Date: 5 p.m. eastern time on May 16, 2005.

4. Southern California Edison Company

[Docket No. ER04-435-012]

Take notice that on April 22, 2005, Southern California Edison Company (SCE) tendered for filing revisions to its Wholesale Distribution Access Tariff (WDAT), FERC Electric Tariff, First Revised Volume No. 5, in compliance with the Commission's Order issued February 18, 2005, in Docket Nos. ER04-435-006, 110 FERC ¶ 61,176. SCE states that the present filing is also tendered pursuant to section 205 of the Federal Power Act, 16 U.S.C. 824d (2004) and section 35.13 of the Comission's Rules of Practice and Procedure, 18 CFR 35.13 (2004).

SCE states that copies of this filing were served on parties on the official service list in the above-captioned proceeding.

Comment Date: 5 p.m. eastern time on May 13, 2005.

5. Milford Power Company, LLC

[Docket No. ER05-163-003]

Take notice that, on April 21, 2005, Milford Power Company, LLC (Milford) submitted a compliance filing pursuant to the Commission's order issued March 22, 2005, in Docket No.ER05-163-000, Milford Power Company, LLC, 110 FERC ¶ 61,299.

Milford states that copies of the filing were served on parties on the official service list in the above-captioned proceeding.

Comment Date: 5 p.m. eastern time on May 12, 2005.

6. Transmission Owners of the Midwest Independent Transmission System Operator Inc.

[Docket No. ER05-447-004]

Take notice that on April 22, 2005, the Transmission Owners of the Midwest Independent Transmission System Operator (Midwest ISO Transmission Owners) submitted for filing in compliance with the Commission's order issued March 24, 2005, in Docket No. ER05-447-000, et al., an amendment to the proposed Schedule 23 to the Midwest Independent Transmission System Operator, Inc.'s Tariff.

The Midwest ISO Transmission Owners state that they are serving this filing on all Midwest ISO's affected customers as well as on all applicable state commissions. In addition, the Midwest ISO Transmission Owners state that the Midwest ISO will post a copy on its home page.

Comment Date: 5 p.m. eastern time on May 13, 2005

7. Deephaven RV Sub Fund Ltd.

[Docket No. ER05-725-001]

Take notice that on April 22, 2005, Deephaven RV Sub Fund Ltd. (Deephaven) tendered for filing a supplement to its March 24, 2005, application in Docket No. ER05-725-000 for market-based rate authority. Deephaven states that the supplement adds a new rate sheet to Deephaven's proposed rate schedule setting forth the change in status reporting requirements adopted by the Commission in Order No. 652. Deephaven requests an effective date of April 25, 2005.

Comment Date: 5 p.m. eastern time on May 2, 2005.

8. Victoria International Ltd.

[Docket No. ER05-757-002]

Take notice that on April 25, 2005, Victoria International Ltd. (Victoria) submitted an amendment to its March 31, 2005, and April 12, 2005, filings submitting a petition for authority to sell power at market-based rates, acceptance of proposed rate schedule, and granting of certain waivers. Victoria requests an effective date 60 days from the date of filing of the petition or the date of the order accepting Victoria's rate schedule for filing, whichever is earlier.

Comment Date: 5 p.m. eastern time on May 13, 2005.

9. Virtual Energy, Inc.

[Docket No. ER05-798-001]

Take notice that on April 22, 2005, Virtual Energy, Inc. (Virtual Energy) filed an amended petition for acceptance of Virtual Energy Rate Schedule FERC No. 1; the granting of certain blanket approvals, including the authority to sell electricity at market-based rates; and the waiver of certain Commission regulations, originally filed with the Commission on April 8, 2005, in Docket No. ER05-798-000.

Comment Date: 5 p.m. eastern time on May 13, 2005.

10. Duke Energy Corporation

[Docket No. ER05-855-000]

Take notice that on April 22, 2005, Duke Energy Corporation, on behalf of Duke Electric Transmission, (collectively, Duke) submitted a large generator interconnection agreement between Duke Electric Transmission and Power Ventures Group, LLC (PVG), which is designated as Service Agreement No. 339 under Duke Electric Transmission FERC Electric Tariff Third Revised Volume No. 4.

Duke states that copies of the filing were served upon PVG and the South Carolina and North Carolina state public service commissions.

Comment Date: 5 p.m. eastern time on May 13, 2005.

11. Virginia Electric and Power Company

[Docket No. ER05-856-000]

Take notice that on April 22, 2005, Virginia Electric and Power Company (VEPCO) tendered for filing Supplement No. 2 to the Agreement for the Purchase of Electricity for Resale from Virginia Electric and Power Company between VEPCO and the Town of Windsor, North Carolina. VEPCO requests an effective date of June 21, 2005.

VEPCO states that copies of the filing were served upon the Town of Windsor, the Virginia State Corporation Commission and the North Carolina Utilities Commission.

Comment Date: 5 p.m. eastern time on May 13, 2005.

12. Tampa Electric Company

[Docket No. ER05-859-000]

Take notice that on April 22, 2005, Tampa Electric Company (Tampa Electric) filed a notice pursuant to the order issued March 30, 2005, in North American Electric Reliability Council, 110 FERC ¶ 61,388, stating that: (1) It uses the North American Electric Reliability Council's (NERC's) revised transmission loading relief (TLR) procedures; and (2) its open access transmission tariff (OATT) shall be considered so modified. Tampa Electric also tendered for filing First Revised Sheet No. 121, which updates the notice concerning use of the NERC TLR procedures in the OATT. Tampa Electric requests an effective date of April 1, 2005.

Tampa Electric states that copies of the filing have been served on all persons on the service list in Docket No. ER05-580-000, all customers under Tampa Electric's OATT, and the Florida Public Service Commission.

Comment Date: 5 p.m. eastern time on May 13, 2005.

13. North West Rural Electric Cooperative

[Docket No. ES05-29-000]

Take notice that on April 21, 2005, North West Rural Electric Cooperative (North West) submitted an application pursuant to section 204 of the Federal Power Act seeking authorization to make long-term borrowings in an amount not to exceed $13.5 million under a line of credit with the National Rural Utilities Cooperative Finance Corporation.

North West also requests a waiver from the Commission's competitive bidding and negotiated placement requirements at 18 CFR 34.2.

Comment Date: 5 p.m. eastern time on May 18, 2005.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all parties to this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-2194 Filed 5-4-05; 8:45 am]

BILLING CODE 6717-01-P